DEPARTMENT OF ENERGY

Federal Energy Regulatory Commission

[Project No. 6564-002 Oregon]

Jane A. Horning; Notice of Availability of Environmental Assessment

April 23, 2004.

In accordance with the National Environmental Policy Act of 1969 and the Federal Energy Commission's (Commission) regulations, 18 CFR Part 380 (Order No. 486, 52 FR 47897), the Office of Energy Projects has reviewed the application for surrender of exemption for the constructed Brunswick Creek Project. Jane A. Horning is the exemptee. The project is located on Brunswick Creek, near North Plains, Washington County, Oregon. The Commission staff has prepared an Environmental Assessment (EA) on the exemption surrender.

The EA contains the staff's analysis of the potential environmental impacts of the surrender of the exemption, and has concluded that surrendering the exemption, would not constitute a major federal action that would significantly affect the quality of the human environment.

A copy of the EA is attached to the Commission order titled “Order Accepting Surrender of Exemption”, which was issued on April 23, 2004. The EA is available for review at the Commission in the Public Reference Room or may be viewed on the Commission's website at http:/www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

FOR FURTHER INFORMATION CONTACT: Mr. Blake Condo at (202) 502-8914.

Magalie R. Salas,
Secretary.

[FR Doc. E4-975 Filed 4-30-04; 8:45 am]

BILLING CODE 6717-01-P